DEPARTMENT OF DEFENSE

Office of the Secretary

Defense Advisory Committee on Investigation, Prosecution, and Defense of Sexual Assault in the Armed Forces; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Defense Advisory Committee on Investigation, Prosecution, and Defense of Sexual Assault in the Armed Forces will take place.

DATES: Open to the public, Friday, August 23, 2019, from 9:00 a.m. to 5:00 p.m.

ADDRESSES: Doubletree by Hilton Crystal City, 300 Army Navy Drive, Arlington, Virginia.

FOR FURTHER INFORMATION CONTACT: Dwight Sullivan, 703-695-1055 (Voice), dwight.h.sullivan.civ@mail.mil (Email). Mailing address is DAC-IPAD, One Liberty Center, 875 N. Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the thirteenth public meeting held by the DAC-IPAD. For the first session the Committee will receive a briefing from the DAC-IPAD Data Working Group regarding preliminary fiscal year 2018 data on acquittal rates for sexual assault in the military and an overview of the draft Department of Defense Report on Allegations of Collateral Misconduct Against Individuals Identified as the Victim of Sexual Assault in the Case Files of a Military Criminal Investigative Organization. The Committee will discuss the Department of Defense draft Report on Allegations of Collateral Misconduct Against Individuals Identified as the Victim of Sexual Assault in the Case Files of a Military Criminal Investigative Organization. The Committee will hold a question and answer session with Service representatives regarding the collateral misconduct report. The Committee will then hear from three Service member panels composed of (1) the Services' Criminal Law/Military Justice Division Chiefs; (2) the Special Victims' Counsel/Victims' Legal Counsel Program Managers; and (3) the Trial Defense Service Organization Chiefs regarding their perspectives on conviction and acquittal rates, the preferral and referral process, and victim declination in sexual assault cases. The Committee will receive a status update from the Case Review Working Group and a presentation by the Data Working Group regarding the 2018 case adjudication data report plan. For its final session, the Committee will review and deliberate on the Department of Defense collateral misconduct report, the testimony received, and the Services' written responses to questions regarding conviction and acquittal rates, the preferral and referral process, and victim declination in sexual assault cases.

Agenda: 9:00 a.m.-9:10 a.m. Public Meeting Begins; 9:10 a.m.-9:25 a.m. DAC-IPAD Data Working Group Presentation of Conviction and Acquittal Rates and Overview of Draft Department of Defense Report on Allegations of Collateral Misconduct Against Individuals Identified as the Victim of Sexual Assault in the Case Files of a Military Criminal Investigative Organization; 9:25 a.m.-10:00 a.m. DAC-IPAD Member Questions Regarding the Draft Department of Defense Report on Allegations of Collateral Misconduct Against Individuals Identified as the Victim of Sexual Assault in the Case Files of a Military Criminal Investigative Organization; 10:00 a.m.-11:30 a.m. Panel 1: Perspectives of Services' Military Justice Division Chiefs Regarding Conviction and Acquittal Rates, the Case Adjudication Process, and Victim Declination in the Military Justice Process; 11:30 a.m.-11:45 a.m. Break; 11:45 a.m.-1:15 p.m. Panel 2: Perspectives of Services' Special Victims' Counsel/Victims' Legal Counsel Program Managers Regarding Conviction and Acquittal Rates, the Case Adjudication Process, and Victim Declination in the Military Justice Process; 1:15 p.m.-2:00 p.m. Lunch; 2:00 p.m.-3:20 p.m. Panel 3: Perspectives of Services' Trial Defense Service Organization Chiefs Regarding Conviction and Acquittal Rates, the Case Adjudication Process, and Victim Declination in the Military Justice Process; 3:20 p.m.-3:30 p.m. Break; 3:30 p.m.-3:45 p.m. Case Review Working Group Status Update; 3:45 p.m.-4:15 p.m. Data Working Group Presentation of 2018 Case Adjudication Data Report Plan; 4:15 p.m.-4:45 p.m. Committee Deliberations: Department of Defense draft Report on Allegations of Collateral Misconduct Against Individuals Identified as the Victim of Sexual Assault in the Case Files of a Military Criminal Investigative Organization; presenter testimony; and the Services' written responses to DAC-IPAD questions regarding conviction and acquittal rates, the case adjudication process, and victim declination in sexual assault cases; 4:45 p.m.-5:00 p.m. Public Comment; 5:00 p.m. Public Meeting Adjourned.

Meeting Accessibility: Pursuant to 5 U.S.C. 552b and 41 CFR 102-3.140 through 102-3.165, and the availability of space, this meeting is open to the public. Seating is limited and is on a first-come basis. Individuals requiring special accommodations to access the public meeting should contact the DAC-IPAD at whs.pentagon.em.mbx.dacipad@mail.mil at least five (5) business days prior to the meeting so that appropriate arrangements can be made. In the event the Office of Personnel Management closes the government due to inclement weather or for any other reason, please consult the website for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 4:45 p.m. to 5:00 p.m. on August 23, 2019, in front of the Committee members.

Dated: July 26, 2019.
Aaron T. Siegel,
Alternate OSD Federal Register Liaison Officer, Department of Defense.

[FR Doc. 2019-16373 Filed 7-31-19; 8:45 am]

BILLING CODE 5001-06-P